DEPARTMENT OF HEALTH AND HUMAN SERVICES

Health Resources and Services Administration

Notice of Supplemental Award; National Center for Newborn Screening Systems Excellence Funding Supplement

AGENCY: Health Resources and Services Administration (HRSA), Department of Health and Human Services.

ACTION: Notice of supplemental award.

SUMMARY: HRSA will provide supplemental funding to the National Center for Newborn Screening Systems Excellence in fiscal year 2023.

FOR FURTHER INFORMATION CONTACT: Kim Morrison, Public Health Analyst, Division of Services for Children with Special Health Needs, Maternal and Child Health Bureau, Health Resources and Services Administration, at KMorrison@hrsa.gov and 301-443-6672.

SUPPLEMENTARY INFORMATION:

Intended Recipient of the Award: The Association of Public Health Laboratories.

Amount of Non-Competitive Award: $425,000. Supplemental funding for similar activities may be considered in fiscal year 2024, subject to availability of funding for the activity and satisfactory performance of the recipient.

Project Period: July 1, 2023, to June 30, 2028.

CFDA Number: 93.110.

Award Instrument: Supplement for Services.

Authority: 42 U.S.C. 300b-8 (Public Health Service Act section 1109, as amended).

Table 1—Recipient and Award Amount
Grant No. | Award recipient name | City, state | Award amount
U22MC24078 | Association of Public Health Laboratories | Silver Spring, MD | $425,000

Justification: The National Center for Newborn Screening Systems Excellence provides national leadership, technical assistance, and quality improvement expertise to state and territory newborn screening programs. Additional funding will support emerging needs in the newborn screening community and state laboratories, specifically addressing newborn screening condition naming, counting, testing, assessing health gaps in follow-up, and assessing domains of family outcomes.

Carole Johnson,
Administrator.

[FR Doc. 2023-21512 Filed 9-28-23; 8:45 am]

BILLING CODE 4165-15-P